DEPARTMENT OF THE INTERIOR

Fish and Wildlife Service

[FWS-R4-ES-2017-N130; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by November 27, 2017.

ADDRESSES: Reviewing Documents: Documents and other information submitted with the applications are available for review, subject to the requirements of the Privacy Act and Freedom of Information Act, by any party who submits a written request for a copy of such documents to the following office within 30 days of the date of publication of this notice (see DATES): U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; ESA), and our regulations in the Code of Federal Regulations (CFR) at 50 CFR part 17. With some exceptions, the ESA prohibits activities with listed species unless a Federal permit is issued that allows such activities. The ESA requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit application No. | Applicant | Species/numbers | Location | Activity | Type of take | Permit action
TE 049502-8 | Carola A. Haas, Blacksburg, VA | Reticulated flatwoods salamander (Ambystoma bishopi) | Eglin Air Force Base and Apalachicola National Forest, Florida | Research on habitat use, population dynamics, landscape genetic analyses, and population augmentation | Take tail clips from larvae and terrestrial salamanders; remove eggs and larvae from ponds for head-starting in cattle tanks on site and release following metamorphosis | Amendment.
TE 070800-4 | Ecological Solutions, Inc., Roswell, GA | Alabama red-bellied turtle (Pseudemys alabamensis), eastern indigo snake (Drymarchon corais couperi), flattened musk turtle (Sternotherus depressus), gopher tortoise (Gopherus polyphemus), amber darter (Percina antesella), blue shiner (Cyprinella caerulea), Cherokee darter (Etheostoma scotti), Etowah darter (Etheostoma etowahae), goldline darter (Percina aurolineata), rush darter (Etheostoma phytophilum), snail darter (Percina tanasi), spring pygmy sunfish (Elassoma alabamae), vermilion darter (Etheostoma chermocki), Alabama pearlshell (Margaritifera marrianae), Choctaw bean (Villosa choctawensis), Cumberland bean (Villosa trabalis), fuzzy pigtoe (Pleurobema strodeanum), Georgia pigtoe (Pleurobema hanleyianum), narrow pigtoe (Fusconaia escambia), rabbitsfoot (Quadrula cylindrica cylindrica), round ebonyshell (Fusconaia rotulata), sheepnose mussel (Plethobasus cyphyus), slabshell pearlymussel (Pleuronaia dolabelloides), snuffbox mussel (Epioblasma triquetra), southern kidneyshell (Ptychobranchus jonesi), southern sandshell (Hamiota australis), spectaclecase (Cumberlandia monodonta), tapered pigtoe (Fusconaia burkei), and rough hornsnail (Pleurocera foremani) | AL, FL, GA, NC, SC, and TN | Presence/absence surveys | Scope burrows, capture, handle, release | Renewal and Amendment.
TE 171545-3 | Ronald K. Redman, Benton, AR | Gray bat (Myotis grisescens), Indiana bat (M. sodalis), northern long-eared bat (M. septentrionalis), Ozark big-eared bat (Corynorhinus townsendii ingens), Virginia big-eared bat (C. t. virginianus) | AL, AR, CO, DE, FL, GA, IL, IN, IA, KS, KY, LA, MD, MI, MN, MS, MO, NJ, NY, NC, OH, OK, PA, SC, TN, TX, VT, VA, WV, WI | Presence/absence surveys and white-nose syndrome research | Enter hibernacula or maternity roost caves, capture with mist nets or harp traps, handle, identify, band, radio-tag, wing-punch, and hold temporarily | Renewal and Amendment.
TE 070796-9 | Apogee, Inc., Whitesburg, KY | Ozark big-eared bat (Corynorhinus townsendii ingens) | AR, MO, OK | Presence/absence surveys | Capture with mist nets or harp traps, handle, collect hair samples, band, radio-tag, light-tag, and wing-punch | Amendment.
TE 71854A-1 | David Eargle, South Carolina DHEC Bureau of Water, Columbia, SC | Carolina heelsplitter (Lasmigona decorata) | NC, SC | Presence/absence surveys and collection of relic shells | Capture, handle, release, salvage shells | Renewal.
TE 05565B-1 | UT-Battelle Corp., Oak Ridge, TN | Gray bat (Myotis grisescens), Indiana bat (M. sodalis), and northern long-eared bat (M. septentrionalis) | Oak Ridge Reservation, Tennessee | Presence/absence surveys | Enter hibernacula or maternity roost caves, salvage dead bats, capture with mist nets or harp traps, handle, identify, collect hair samples, band, radio-tag, light-tag, and wing-punch | Renewal and Amendment.
TE 65968A-1 | Richard J. Dickey, Tallahassee, FL | Alabama pearlshell (Margaritifera marrianae), Chipola slabshell (Elliptio chipolaensis), Choctaw bean (Villosa choctawensis), fat threeridge (Amblema neislerii), fuzzy pigtoe (Pleurobema strodeanum), Gulf moccasinshell (Medionidus penicillatus), narrow pigtoe (Fusconaia escambia), Ochlockonee moccasinshell (Medionidus simpsonianus), oval pigtoe (Pleurobema pyriforme), purple bankclimber (Elliptoideus sloatianus), round ebonyshell (Fusconaia rotulata), shinyrayed pocketbook (Lampsilis subangulata), southern kidneyshell (Ptychobranchus jonesi), southern sandshell (Hamiota australis), Suwannee moccasinshell (Medionidus walkeri), and tapered pigtoe (Fusconaia burkei) | AL, FL, GA | Presence/absence surveys | Capture, identify, and release | Renewal and Amendment.
TE 37219B-1 | Roger W. Perry, USDA Forest Service, Hot Springs, AR | Gray bat (Myotis grisescens), Indiana bat (M. sodalis), and northern long-eared bat (M. septentrionalis) | AR, LA, OK, TX | Presence/absence surveys and studies to document habitat use | Enter hibernacula or maternity roost caves, salvage dead bats, capture with mist nets, handle, identify, collect hair samples, band, radio-tag, light-tag, wing-punch, and selectively euthanize | Amendment.
TE 79580A-3 | Jason M. Butler, Midway, KY | Indiana bat (Myotis sodalis) and northern long-eared bat (M. septentrionalis) | VA | Presence/absence surveys | Enter hibernacula or maternity roost caves, salvage dead bats, capture with mist nets or harp traps, handle, identify, band, and radio-tag | Amendment.
TE 034476-4 | Florida Forest Service, Blackwater Forestry Center, Milton, FL | Red-cockaded woodpecker (Picoides borealis) | Blackwater River State Forest, Florida | Population management and monitoring | Install artificial nest cavities and restrictors, monitor nest cavities, capture, band, and translocate | Renewal and Amendment.

Authority: We provide this notice under section 10(c) of the Act.

Dated: September 7, 2017.
Aaron L. Valenta,
Acting Assistant Regional Director, Ecological Services, Southeast Region.

[FR Doc. 2017-23390 Filed 10-26-17; 8:45 am]

BILLING CODE 4333-15-P